EQUAL EMPLOYMENT OPPORTUNITY COMMISSION

Sunshine Act Meeting

AGENCY HOLDING THE MEETING: Equal Employment Opportunity Commission.

DATE AND TIME: Thursday, July 27, 2000 at 2 p.m. (Eastern Time).

PLACE: Conference Room on the Ninth Floor of the EEOC Office Building, 1801 “L” Street, NW, Washington, DC 20507.

STATUS: The meeting will be open to the public.

MATTERS TO BE CONSIDERED: Open Session

The 10th Anniversary of the Americans with Disabilities Act: EEOC's Past Accomplishments and Future Trends.

Note: Any matter not discussed or concluded may be carried over to a later meeting. (In addition to publishing notices on EEOC Commission meetings in the Federal Register, the Commission also provides a recorded announcement a full week in advance on future Commission sessions.) Please telephone (202) 663-7100 (voice) and (202) 663-4074 (TTD) at any time for information on these meetings.

CONTACT PERSON FOR MORE INFORMATION: Frances M. Hart, Executive Officer on (202) 663-4070.

This Notice Issued: July 13, 2000.
Frances M. Hart,
Executive Officer, Executive Secretariat.

[FR Doc. 00-18084 Filed 7-13-00; 11:19 am]

BILLING CODE 6750-06-M